DEPARTMENT OF ENERGY

Federal Energy Regulatory Commission

Notice of Waiver Period for Water Quality Certification Applications

| Project No.
Central Rivers Power NH, LLC:
J. Brodie Smith Hydroelectric Project | 2287-053
Gorham Hydroelectric Project | 2288-057
Great Lakes Hydro America, LLC:
Shelburne Hydroelectric Project | 2300-052
Upper Gorham Hydroelectric Project | 2311-067
Cross Power Hydroelectric Project | 2326-054
Cascade Hydroelectric Project | 2327-047
Sawmill Hydroelectric Project | 2422-058
Riverside Hydroelectric Projec | 2423-031

On September 22, 2023, Central Rivers Power NH, LLC and Great Lakes Hydro America, LLC submitted to the Federal Energy Regulatory Commission (Commission) copies of its applications for Clean Water Act section 401(a)(1) water quality certifications filed with the New Hampshire Department of Environmental Services (New Hampshire DES), in conjunction with the above captioned projects. Pursuant to Section 401 of the Clean Water Act ¹ and section 5.23(b) of the Commission's regulations,² a state certifying agency is deemed to have waived its certifying authority if it fails or refuses to act on a certification request within a reasonable period of time, which is one year after the date the certification request was received. Accordingly, we hereby notify New Hampshire DES of the following:

¹ 33 U.S.C. 1341(a)(1).

² 18 CFR 5.23(b) (2022).

Date New Hampshire DES received the certification requests: September 22, 2023.

If New Hampshire DES fails or refuses to act on the water quality certification requests on or before September 22, 2024, then the agency certifying authority is deemed waived pursuant to section 401(a)(1) of the Clean Water Act, 33 U.S.C. 1341(a)(1).

Dated: September 25, 2023.
Debbie-Anne A. Reese,
Deputy Secretary.

[FR Doc. 2023-21507 Filed 9-28-23; 8:45 am]

BILLING CODE 6717-01-P